GENERAL SERVICES ADMINISTRATION

[OMB Control No. 3090-0121]

General Services Administration Acquisition Regulation; Submission for OMB Review; Industrial Funding Fee and Sales Reporting

AGENCY: Acquisition Policy Division, GSA.

ACTION: Notice of request for comments regarding a reinstatement of an information collection for an existing OMB clearance.

SUMMARY: Under the provisions of the Paperwork Reduction Act of 1995 (44 U.S.C. Chapter 35), the Regulatory Secretariat will be submitting to the Office of Management and Budget (OMB) a request to review and approve a reinstatement of a previously approved information collection requirement regarding industrial funding fee and sales reporting. A request for public comments was published in the Federal Register at 74 FR 58630, on November 13, 2009. No comments were received.

Public comments are particularly invited on: Whether this collection of information is necessary and whether it will have practical utility; whether our estimate of the public burden of this collection of information is accurate, and based on valid assumptions and methodology; ways to enhance the quality, utility, and clarity of the information to be collected.

DATES: Submit comments on or before: March 1, 2010.

FOR FURTHER INFORMATION CONTACT: Mr. Warren Blankenship, Procurement Analyst, Contract Policy Branch, at telephone (202) 501-1900 or via e-mail to warren.blankenship@gsa.gov.

ADDRESSES: Submit comments regarding this burden estimate or any other aspect of this collection of information, including suggestions for reducing this burden to GSA Desk Officer, OMB, Room 10236, NEOB, Washington, DC 20503, and a copy to the Regulatory Secretariat (MVPR), General Services Administration, 1800 F Street, NW., Room 4041, Washington, DC 20405. Please cite OMB Control No. 3090-0121, Industrial Funding Fee and Sales Reporting, in all correspondence.

SUPPLEMENTARY INFORMATION:

A. Background

The Government collects the data quarterly in order to evaluate and monitor the effectiveness of the schedule program and to negotiate better prices based on volume, which saves taxpayers dollars. As a result of collecting the data quarterly, the Government has the ability to provide upon request current schedule sales information to the federal agencies and the public.

B. Annual Reporting Burden

Respondents: 17,000.

Responses Per Respondent: 20.

Total Responses: 340,000.

Hours Per Response: .0833.

Total Burden Hours: 28,322.

Obtaining Copies of Proposals: Requesters may obtain a copy of the information collection documents from the General Services Administration, Regulatory Secretariat (MVPR), 1800 F Street, NW., Room 4041, Washington, DC 20405, telephone (202) 208-7312. Please cite OMB Control No. 3090-0121, Industrial Funding Fee and Sales Reporting, in all correspondence.

Dated: January 22, 2010.
Al Matera,
Director, Acquisition Policy Division.

[FR Doc. 2010-1681 Filed 1-27-10; 8:45 am]

BILLING CODE 6820-61-P